DEPARTMENT OF STATE

[Public Notice: 5718]

60-Day Notice of Proposed Information Collection: DS-4035, Class B Nonimmigrant Visa Referral, OMB Control Number 1405-XXXX

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Class B Nonimmigrant Visa Referral.

• OMB Control Number: None.

• Type of Request: New Approval Request.

• Originating Office: Bureau of Consular Affairs, Department of State (CA/VO).

• Form Number: DS-4035.

• Respondents: Consular officers.

• Estimated Number of Respondents: 20,000.

• Estimated Number of Responses: 20,000.

• Average Hours Per Response: 15 minutes.

• Total Estimated Burden: 5,000 hours per year.

• Frequency: On occasion.

• Obligation to Respond: Required to Obtain or Retain a Benefit.

DATES: The Department will accept comments from the public up to 60 days from March 13, 2007.

ADDRESSES: You may submit comments by any of the following methods:

• E-mail: VisaRegs@state.gov (Subject line must read DS-4035 Notice).

• Mail (paper, disk, or CD-ROM submissions): Chief, Legislation and Regulation Division, Visa Services—DS-4035 Notice, 2401 E Street, NW., Washington DC 20520-30106.

• Fax: (202) 663-3898.

You must include the DS form number (if applicable), information collection title, and OMB control number in any correspondence.

FOR FURTHER INFORMATION CONTACT: Direct requests for additional information regarding the collection listed in this notice, including requests for copies of the proposed information collection and supporting documents, to Lauren Prosnik of the Office of Visa Services, U.S. Department of State, 2401 E Street, NW. L-603, Washington, DC 20520, who may be reached at (202) 663-2951 or prosnikla@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

Form DS-4035 is used by consular officers to process referral visa cases when the case is not directly in the U.S. national interest, but assisting a key contact with a visa request would promote U.S. national interests or public diplomacy efforts, or if the applicant is not personally known by the referring officer.

Methodology

The DS-4035 is filled out by Department of State employees at posts abroad.

Dated: January 16, 2007.
Stephen A. Edson,
Deputy Assistant Secretary, Bureau of Consular Affairs, Department of State.

[FR Doc. E7-4554 Filed 3-12-07; 8:45 am]

BILLING CODE 4710-06-P